DEPARTMENT OF DEFENSE

Office of the Secretary

DoDEA FY 2009 Grant Competition Announcement

AGENCY: Department of Defense Education Activity, DoD.

ACTION: Notice of grant competition announcement; amendment.

SUMMARY: The Department of Defense Education Activity (DoDEA) is amending the Promoting Student Achievement at Schools Impacted by Military Force Structure Changes grant competition announcement, which appeared in the Federal Register on November 18, 2008 (73 FR 68423-68425). The amendments include a change in the expected dates, the elimination of the letter of intent, and the addition of Web site information where questions and answers will be posted.

Expected Dates and Procedures

Concept Paper Application Available: 16 Jan 09.

Deadline for Submission of Concept Papers: 06 Mar 09, 5 p.m. (EST).

Full Applications Available (by invitation only): 13 Apr 09.

Deadline for Submission of Full Proposals: 25 May 09, 5 p.m. (EST).

Deadline for Intergovernmental Review: 01 Jul 09.

Letter of Intent

There will be no letter of intent.

Posted Questions and Answers

DoDEA will post questions and answers on its Educational Partnerships' Web site: http://www.militaryk12partners.dodea.edu.

DoDEA Point of Contact

Mr. Brian Pritchard, Contracts and Grants Liaison, Department of Defense Education Activity (DoDEA) E-mail: brian.pritchard@hq.dodea.edu.

Dated: December 11, 2008.
Patricia L. Toppings,
OSD Federal Register Liaison Officer, Department of Defense.

[FR Doc. E8-30050 Filed 12-17-08; 8:45 am]

BILLING CODE 5001-06-P